SPECIAL INSPECTOR GENERAL FOR AFGHANISTAN RECONSTRUCTION

5 Part 9302

RIN 3460-AA02

Requests for Testimony or the Production of Records in a Court or Other Proceedings in Which the United States Is Not a Party

AGENCY: Special Inspector General for Afghanistan Reconstruction.

ACTION: Final rule.

SUMMARY: The Special Inspector General for Afghanistan Reconstruction (SIGAR) is adopting as final, without changes, an interim rule on procedures for the public to obtain the production or disclosure of information and documents of Special Inspector General for Afghanistan Reconstruction (SIGAR) in connection with legal proceedings in which neither the United States nor the SIGAR is a party.

DATES: Effective date: June 22, 2012.

ADDRESSES: Special Inspector General for Afghanistan Reconstruction, 2530 Crystal Drive, Arlington, Virginia 22202-3940. Attention: Office of General Counsel.

FOR FURTHER INFORMATION CONTACT: Hugo Teufel, General Counsel, at (703) 545-5990, email: hugo.teufel.civ@mail.mil.

SUPPLEMENTARY INFORMATION: On March 16, 2012, SIGAR published in the Federal Register (77 FR 15561) an interim final rule that establishes procedures for the public to obtain the production or disclosure of information and documents of Special Inspector General for Afghanistan Reconstruction (SIGAR) in connection with legal proceedings in which neither the United States nor the SIGAR is a party.

We provided a 30-day comment period that ended on April 16, 2012. We received no comments and will not be making any changes to the interim final rule. Based on the rationale set forth in the interim final rule, we adopt the interim final rule without change as a final rule.

I. Matters of Regulatory Procedure

Regulatory Flexibility Act

As Acting Inspector General of SIGAR, I have determined under the Regulatory Flexibility Act (5 U.S.C. chapter 6) that this proposed rule will not have a significant economic impact on a substantial number of small entities because it will primarily affect SIGAR employees.

Paperwork Reduction Act

As Acting Inspector General of SIGAR, I have determined that the Paperwork Reduction Act (44 U.S.C. chapter 35) does not apply to this proposed rule, because it does not contain any information collection requirements that would require the approval of the Office of Management and Budget.

Unfunded Mandates Reform Act

For purposes of the Unfunded Mandates Reform Act of 1995 (2 U.S.C. chapter 25, subchapter II), this proposed rule would not significantly or uniquely affect small governments and would not result in increased expenditures by State, local, and tribal governments, or by the private sector, of $100 million or more (as adjusted for inflation) in any one year.

Congressional Review Act

SIGAR has determined that this rule is not a rule as defined in 5 U.S.C. 804 and, thus, does not require review by Congress.

Executive Order 12866

In promulgating this proposed rule, SIGAR has adhered to the regulatory philosophy and the applicable principles of regulation set forth in section 1 of Executive Order 12866, Regulatory Planning and Review. This rule has not been reviewed by the Office of Management and Budget under that Executive order, since it deals with agency organization, management, and personnel matters and is not in any way event deemed “significant” thereunder.

Executive Order 12988

As Acting Inspector General of SIGAR, I have reviewed this proposed rule in light of section 3 of Executive Order 12988, Civil Justice Reform, and certify that it meets the applicable standards provided therein.

List of Subjects in 5 CFR Part 9302

Courts, Freedom of information, Government employees.

Dated: June 15, 2012.
Steven J. Trent,
Acting Inspector General, Special Inspector General for Afghanistan Reconstruction.

Authority and Issuance

Accordingly, the interim final rule amending 5 CFR part 9302, which was published at 77 FR 15561 on March 16, 2012, is adopted as a final rule without change.

[FR Doc. 2012-15114 Filed 6-21-12; 8:45 am]

BILLING CODE 3710-L9-P